FEDERAL COMMUNICATIONS COMMISSION

47 CFR Part 64

[CG Docket No. 03-123; WC Docket No. 05-196; WC Docket No. 10-191; FCC 11-123]

Internet-Based Telecommunications Relay Service Numbering

AGENCY: Federal Communications Commission.

ACTION: Final rule; announcement of effective date.

SUMMARY: In this document, the Commission announces that the Office of Management and Budget (OMB) has approved, for a period of three years, the information collection associated with the Commission's Internet-Based Telecommunications Relay Service Numbering, Report and Order (Report and Order). The information collection requirements were approved on September 27, 2011 by OMB.

DATES: 47 CFR 64.611(e)(2), 64.611(e)(3), 64.611(g)(1)(v), 64.611 (g)(1)(vi), and 64.613(a)(3), are effective November 22, 2011.

FOR FURTHER INFORMATION CONTACT: Heather Hendrickson, Competition Policy Division, Wireline Competition Bureau, at (202) 418-7295, or email: Heather.Hendrickson@fcc.gov.

SUPPLEMENTARY INFORMATION: This document announces that, on September 27, 2011, OMB approved, for a period of three years, the information collection requirements contained in 47 CFR 64.611(e)(2), 64.611(e)(3), 64.611(g)(1)(v), 64.611 (g)(1)(vi), and 64.613(a)(3). The Commission publishes this notice as an announcement of the effective date of the rules. See Internet-Based Telecommunications Relay Service Numbering, CG Docket No. 03-123; WC Docket No. 05-196; WC Docket No. 10-191; FCC 11-123, published at 76 FR 59511, September 27, 2011. If you have any comments on the burden estimates listed below, or how the Commission can improve the collections and reduce any burdens caused thereby, please contact Cathy Williams, Federal Communications Commission, Room 1-C823, 445 12th Street SW., Washington, DC 20554. Please include the OMB Control Number, 3060-1089, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on September 27, 2011, for the information collection requirements contained in the Commission's rules at 47 CFR 64.611(e)(2), 64.611(e)(3), 64.611(g)(1)(v), 64.611(g)(1)(vi), and 64.613(a)(3).

Under 5 CFR part 1320, an agency may not conduct or sponsor a collection of information unless it displays a current, valid OMB Control Number.

No person shall be subject to any penalty for failing to comply with a collection of information subject to the Paperwork Reduction Act that does not display a current valid OMB Control Number. The OMB Control Number is 3060-1089.

The foregoing notice is required by the Paperwork Reduction Act of 1995, Public Law 104-13, October 1, 1995, and 44 U.S.C. 3507.

The total annual reporting burdens and costs for the respondents are as follows:

OMB Control Number: 3060-1089.

OMB Approval Date: September 27, 2011.

OMB Expiration Date: December 31, 2013.

Title: Telecommunications Relay Services and Speech-to-Speech Services for Individuals with Hearing and Speech Disabilities; E911 Requirements for IP-Enabled Service Providers; Internet-Based Telecommunications Relay Service Numbering, CG Docket No. 03-123, WC Docket No. 05-196, and WC Docket No. 10-191; FCC 11-123.

Form Number: N/A.

Type of Review: Revision of a currently approved collection.

Respondents: Business or other for-profit entities; Not-for-profit institutions; Individuals or households; State, local or tribal government.

Number of Respondents and Responses: 15 respondents; 5,763,199 responses.

Estimated Time per Response: 0.25-1.5 hours.

Frequency of Response: On occasion, quarterly and one time reporting requirements, recordkeeping and third party disclosure requirements.

Obligation to Respond: Required to obtain or retain benefits. The statutory authority for the collection is contained in Sections 1, 2, 4(i), 4(j), 225, 251, and 303(r) of the Communications Act of 1934, as amended, 47 U.S.C. 151, 152, 154(i), 154(j), 225, 251, 303(r).

Total Annual Burden: 279,891 hours.

Total Annual Cost: $4,269,135.

Nature and Extent of Confidentiality: An assurance of confidentiality is not offered because this information collection does not require the collection of personally identifiable information (PII) from individuals by the Commission.

Privacy Impact Assessment: This information collection affects individuals or households, and thus there are impacts under the Privacy Act. However, a third party, the individual or household's VRS or IP Relay provider, collects the information that is related to individuals or households; and the Commission has no direct involvement in this collection. As such, the Commission is not required to complete a privacy impact assessment. Further, VRS and IP Relay providers generally have written privacy policies governing the treatment of information collected from their users, and the Commission expects that much of the information collected here would fall under those policies.

Needs and Uses: On August 4, 2011 the Commission released Report and Order FCC 11-123, published at 76 FR 59551, September 27, 2011, adopting final rules—containing information collection requirements—designed to improve assignment of telephone numbers associated with Internet-based Telecommunications Relay Service (iTRS). Specifically, the final rules, described below are designed to promote the use of geographically appropriate local numbers, while ensuring that the deaf and hard-of-hearing community has access to toll free telephone numbers that is equivalent to access enjoyed by the hearing community.

Below are the new and revised information collection requirements contained in the Report and Order:

A. Provision of Routing Information

In addition to provisioning their registered users' routing information to the TRS Numbering Directory and maintaining such information in the database, the VRS and IP relay providers must: (1) Remove from the Internet-based TRS Numbering Directory any toll free number that has not been transferred to a subscription with a toll free service provider and for which the user is the subscriber of record, and (2) ensure that the toll free number of a user that is associated with a geographically appropriate NANP number will be associated with the same Uniform Resource Identifier URI as that geographically appropriate NANP telephone number.

B. User Notification

In addition to the information that the Commission previously instructed VRS and IP Relay providers to include in the consumer advisories, VRS and IP Relay providers must also include certain additional information in their consumer advisories under the Report and Order. Specifically, the consumer advisories must explain: (1) The process by which a VRS or IP Relay user may acquire a toll free number from a toll free service provider, or transfer control of a toll free number from a VRS or IP Relay provider to the user; and (2) the process by which persons holding a toll free number may have that number linked to their ten-digit telephone number in the TRS Numbering Directory.

C. Transferring Toll Free Numbers

VRS and IP Relay providers that have already assigned or provided a toll free number to a VRS or IP Relay user must, at the VRS or IP Relay user's request, facilitate the transfer of the toll free number to a toll free subscription with a toll free service provider that is under the direct control of the user.

Federal Communications Commission.
Marlene H. Dortch,
Secretary, Office of the Secretary, Office of Managing Director.

[FR Doc. 2011-30119 Filed 11-21-11; 8:45 am]

BILLING CODE 6712-01-P